DEPARTMENT OF HOUSING AND URBAN DEVELOPMENT

[Docket No. FR-5603-N-35]

Notice of Proposed Information Collection for Public Comment: Fiscal Year 2012 Disaster Recovery Grant Application and Setup in the Disaster Recovery Grant Reporting System; Emergency Comment Request

AGENCY: Office of the Assistant Secretary for Housing, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: June 15, 2012.

ADDRESSES: Interested persons are invited to submit comments regarding this proposal. Comments must be received within seven (7) days from the date of this Notice. Comments should refer to the proposal by name/or OMB approval number (2506-New) and should be sent to: HUD Desk Officer, Office of Management and Budget, New Executive Office Building, Washington, DC 20503; email: OIRA Submission@omb.eop.gov ; fax: 202-395-5806.

FOR FURTHER INFORMATION CONTACT: Stanley Gimont, Director, Community Planning and Development, Office of Block Grant Assistance, Department of Housing and Urban Development, 451 Seventh Street SW., Washington, DC 20401; telephone (202) 402-4559 (this is not a toll free number) for copies of the proposed forms and other available information.

SUPPLEMENTARY INFORMATION: This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Fiscal Year 2012 Disaster Recovery Grant Application and Setup in the Disaster Recovery Grant Reporting System.

Description of Information Collection: This emergency processing request meets the requirements at 5 CFR 1320.13 due to the Department's inability to anticipate the Presidentially-declared disasters and the impact on local housing stock and businesses. Even after a disaster occurred, funding appropriations take place only at the will of Congress, further limiting the Department's ability to predict if, when, and how funds will be appropriated. Although Congress appropriated the funds in November 2011, grantees were not identified and requirements of the program were not known for some time after. Submitting a standard (60 day) PRA collection will negatively impact both families and local economies by delaying the implementation of recovery activities beyond this construction season.

Frequency of Submission: Other, one-time only.

| Number of respondents | Annual responses | × | Hours per response | = | Burden hours
Reporting Burden | 680 | 0.025 |  | 158.76 |  | 2,699

Total Estimated Burden Hours: 2,699.

Status: New collection.

Authority: The Paperwork Reduction Act of 1995, 44 U.S.C. Chapter 35, as amended.

Dated: May 25, 2012.
Colette Pollard,
Departmental Paperwork Reduction Act Officer, Office of the Chief Information Officer.

[FR Doc. 2012-13336 Filed 5-31-12; 8:45 am]

BILLING CODE 4210-67-P